DEPARTMENT OF ENERGY

Federal Energy Regulatory Commission

[Docket No. RP03-331-000]

Vector Pipeline L.P.; Notice of Proposed Withdrawal of Tariff Sheets

April 7, 2003.

Take notice that on April 1, 2003, Vector Pipeline L.P. (Vector), gave notice of the withdrawal of Original Sheet Nos. 173 and 174 of its FERC Gas Tariff, Volume No. 1 and the substitution therefore of place holder tariff sheets. These tariff sheets summarize negotiated rate transactions that have terminated. Vector requests an effective date of April 1, 2003, for the withdrawal. Vector further requests a waiver of the 30-day notice period so that the proposed place holder tariff sheets can go into effect on April 1, 2003.

Any person desiring to be heard or to protest said filing should file a motion to intervene or a protest with the Federal Energy Regulatory Commission, 888 First Street, NE., Washington, DC 20426, in accordance with sections 385.314 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: April 14, 2003.

Magalie R. Salas,
Secretary.

[FR Doc. 03-9099 Filed 4-11-03; 8:45 am]

BILLING CODE 6717-01-P